DEPARTMENT OF THE INTERIOR

National Park Service

[N6339; NPS-WASO-NAGPRA-NPS0040528; PPWOCRADN0-PCU00RP14.R50000]

Notice of Inventory Completion: Shelburne Museum, Shelburne, VT

AGENCY: National Park Service, Interior.

ACTION: Notice.

SUMMARY: In accordance with the Native American Graves Protection and Repatriation Act (NAGPRA), the Shelburne Museum has completed an inventory of human remains and associated funerary objects and has determined that there is a cultural affiliation between the human remains and associated funerary objects and Indian Tribes or Native Hawaiian organizations in this notice.

DATES: Repatriation of the human remains and associated funerary objects in this notice may occur on or after August 27, 2025.

ADDRESSES: Send written requests for repatriation of the human remains and associated funerary objects in this notice to Alexander Kikutis, Shelburne Museum, P.O. Box 10, Shelburne, Vermont 05482, email nagpra@shelburnemuseum.org.

SUPPLEMENTARY INFORMATION: This notice is published as part of the National Park Service's administrative responsibilities under NAGPRA. The determinations in this notice are the sole responsibility of the Shelburne Museum, and additional information on the determinations in this notice, including the results of consultation, can be found in the inventory or related records. The National Park Service is not responsible for the determinations in this notice.

Abstract of Information Available

Based on the information available, human remains representing, at least, one individual have been reasonably identified. The Ancestor was removed from an unknown location, possibly New York, by an unknown individual. In 1960, the Ancestor was given to the Shelburne Museum by Mr. and Mrs. A.D. Allison in honor of Mrs. William T. Beach. In December 2024, the Ancestor was identified during a collections assessment. The Allison family were friends with the Beach family. Willian N. Beach (1873-1955) was an avid sportsman who travelled widely for hunting. Both the Allison and Beach family had homes in Great Neck, Long Island, NY. The Beach family was also close with the Webb family, who owned property in the Adirondacks. Based on this information, it is possible the Ancestor was removed from New York. The 13 associated funerary objects are one lot obsidian points, darts, and modified flakes, one lot worked lithic debitage, one lot ground stone tools, one animal bone awl, one lot faunal fragments, one lot missed material, one lot wood fragments with possible paint residue, one staurolite cruciform (fairy stone cross), one lot lithic points, one lot unclassified lithics, one agate, one corrugated pot sherd, and one rectangular rounded pot sherd.

The Shelburne Museum of has no knowledge or record of any potentially hazardous substances being used to treat the human remains or associated funerary objects.

Cultural Affiliation

Based on the information available and the results of consultation, cultural affiliation is reasonably identified by the geographical location or acquisition history of the human remains and associated funerary objects described in this notice.

Determinations

The Shelburne Museum has determined that:

• The human remains described in this notice represent the physical remains of one individual of Native American ancestry.

• The 13 objects described in this notice are reasonably believed to have been placed intentionally with or near individual human remains at the time of death or later as part of the death rite or ceremony.

• There is a reasonable connection between the human remains and associated funerary objects described in this notice and the Cayuga Nation; Delaware Nation, Oklahoma; Delaware Tribe of Indians; Oneida Indian Nation; Oneida Nation; Onondaga Nation; Saint Regis Mohawk Tribe; Seneca Nation of Indians; Seneca-Cayuga Nation; Shinnecock Indian Nation; Stockbridge Munsee Community, Wisconsin; Tonawanda Band of Seneca; and the Tuscarora Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 27, 2025. If competing requests for repatriation are received, the Shelburne Museum must determine the most appropriate requestor prior to repatriation. Requests for joint repatriation of the human remains and associated funerary objects are considered a single request and not competing requests. The Shelburne Museum is responsible for sending a copy of this notice to the Indian Tribes and Native Hawaiian organizations identified in this notice.

Authority: Native American Graves Protection and Repatriation Act, 25 U.S.C. 3003, and the implementing regulations, 43 CFR 10.10.

Dated: July 1, 2025.
Melanie O'Brien,
Manager, National NAGPRA Program.

[FR Doc. 2025-14155 Filed 7-25-25; 8:45 am]

BILLING CODE 4312-52-P